DEPARTMENT OF ENERGY

Federal Energy Regulatory Commission

Combined Notice of Filings #1

Take notice that the Commission received the following electric rate filings:

Docket Numbers: ER11-47-008; ER12-1540-006; ER12-1541-006; ER12-1542-006; ER12-1544-006; ER10-2981-008; ER14-2475-005; ER14-2476-005; ER14-2477-005; ER14-594-010; ER11-46-011; ER11-41-008; ER12-2343-006; ER13-1896-012.

Applicants: Appalachian Power Company, Indiana Michigan Power Company, Kentucky Power Company, Kingsport Power Company, Wheeling Power Company, AEP Texas Central Company, AEP Texas North Company, Public Service Company of Oklahoma, Southwestern Electric Power Company, Ohio Power Company, AEP Energy Partners, Inc., AEP Retail Energy Partners LLC, AEP Energy, Inc., AEP Generation Resources Inc.

Description: Notice of Non-material Change of Status of the AEP Companies.

Filed Date: 1/13/17.

Accession Number: 20170113-5094.

Comments Due: 5 p.m. ET 2/3/17.

Docket Numbers: ER16-2227-002

Applicants: Kelly Creek Wind, LLC.

Description: Notice of Non-Material Change in Status of Kelly Creek Wind, LLC.

Filed Date: 1/13/17.

Accession Number: 20170113-5113.

Comments Due: 5 p.m. ET 2/3/17.

Docket Numbers: ER16-2240-003.

Applicants: Rush Springs Wind Energy, LLC.

Description: Notice of Non-material Change in Status of Rush Springs Wind Energy, LLC.

Filed Date: 1/12/17.

Accession Number: 20170112-5181.

Comments Due: 5 p.m. ET 2/2/17.

Docket Numbers: ER17-135-002.

Applicants: DesertLink, LLC.

Description: Tariff Amendment: Amendment to 2 to be effective 12/19/2016.

Filed Date: 1/12/17.

Accession Number: 20170112-5147, 20170112-5168.

Comments Due: 5 p.m. ET 2/2/17.

Docket Numbers: ER17-786-000.

Applicants: Luz Solar Partners Ltd., IV.

Description: Baseline eTariff Filing: Luz Solar Partners Ltd., IV Application for Market-Based Rates to be effective 1/31/2017.

Filed Date: 1/12/17.

Accession Number: 20170112-5174.

Comments Due: 5 p.m. ET 2/2/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 13, 2017.
Nathaniel J. Davis, Sr.,
Deputy Secretary.

[FR Doc. 2017-01350 Filed 1-19-17; 8:45 am]

BILLING CODE 6717-01-P